DEPARTMENT OF THE INTERIOR

National Park Service

National Register of Historic Places;Notification of Pending Nominations and Related Actions

Nominations for the following properties being considered for listing or related actions in the National Register were received by the National Park Service before October 22, 2005. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by November 25, 2005.

John W. Roberts,
Acting Chief, National Register/National Historic Landmarks Program.

ARIZONA

Maricopa County

North Central Avenue Streetscape Historic District, Central Ave., bet. Bethany Home Rd. and the Arizona Canal, Phoenix, 05001346

FLORIDA

Martin County

Tuckahoe, 1921 NE Indian River Dr., Jensen Beach, 05001339

KANSAS

Atchison County

Ebenezer Baptist Church, 826 Riley, Atchison, 05001343

Schmitt House, 1110 W. Division St., Atchinson, 05001342

Shawnee County

Security Benefit Association Hospital Building, 5800 SW 6th, 5 mi. NW on private road, Topeka, 05001341

NEW YORK

Richmond County

Staten Island Light, (Light Stations of the United States MPS) S side of Edinboro Rd., bet. 402 and 426 Rd., Richmond, 05001340

VIRGINIA

Arlington County

Arlington Forest Historic District, (Historic Residential Suburbs in the United States, 1830-1960 MPS) Bounded by Carlin Springs Rd., George Mason Dr., Henderson Rd., Aberdeen St., Columbus St., Granada, Galveston and 2nd, Arlington, 05001344

Bedford County

Bellevue Rural Historic District, Bellevue Rd., Forest, 05001345

WASHINGTON

King County

Dougherty, John and Kate, Farmstead, 26524 NE Cherry Valley Rd., Duvall, 05001353

Kitsap County

Camp Major Hopkins, 900 Park Ave. NE, Bainridge Island, 05001351

Pierce County

Lynn, C.O., Co. Funeral Home, 717 Tacoma Ave. S, Tacoma, 05001352

WEST VIRGINIA

Barbour County

Wilmoth, Bernard E., House, 303 Dayton Blvd., Belington, 05001348

Hardy County

Lost River General Store, 6993 WV 259, Lost River, 05001349

Preston County

Downtown Rowlesburg Historic District, Buffalo St., Church St., Portions of Main St., Poplar St., Railroad Alley and Railroad St., Rowlesburg, 05001350

Randolph County

Glady Presbyterian Church and Manse, Jct. of Randolph Ave. and 1st St., Glady, 05001347

A request for a MOVE has been made for the following resources

TEXAS

Denton County

Gregory Road Bridge at Duck Creek (Historic Bridges of Texas MPS) Approx. 0.5 mi. W of Lois Rd., near the N Denton County line Sanger vicinity, 03001419

[FR Doc. 05-22291 Filed 11-8-05; 8:45 am]

BILLING CODE 4312-51-P